ENVIRONMENTAL PROTECTION AGENCY

[FRL OP-OFA-068]

Environmental Impact Statements; Notice of Availability

Responsible Agency: Office of Federal Activities, General Information 202-564-5632 or https://www.epa.gov/nepa.

Weekly receipt of Environmental Impact Statements (EIS)

Filed April 24, 2023 10 a.m. EST Through May 1, 2023 10 a.m. EST

Pursuant to 40 CFR 1506.9

Notice: Section 309(a) of the Clean Air Act requires that EPA make public its comments on EISs issued by other Federal agencies. EPA's comment letters on EISs are available at: https://cdxapps.epa.gov/cdx-enepa-II/public/action/eis/search.

EIS No. 20230059, Draft Supplement, BLM, WY, Buffalo Field Office Draft Supplemental Environmental Impact Statement and Potential Resource Management Plan Amendment, Comment Period Ends: 06/20/2023, Contact: Tom Bills 307-684-1131.

EIS No. 20230060, Draft Supplement, BLM, MT, Miles City Field Office Draft Supplemental EIS and Potential Resource Management Plan Amendment, Comment Period Ends: 08/03/2023, Contact: Irma Nansel 406-233-3653.

EIS No. 20230061, Draft, NMFS, NC, Draft Amendment 15 to the 2006 Consolidated Atlantic Highly Migratory Species Fishery Management Plan, Comment Period Ends: 09/15/2023, Contact: Steve Durkee 301-427-8503.

Amended Notice

EIS No. 20230041, Draft Supplement, USFS, AK, Greens Creek Mine North Extension Project, Comment Period Ends: 05/23/2023, Contact: Matthew Reece 907-789-6274.

Revision to FR Notice Published 03/24/2023; Extending the Comment Period from 05/08/2023 to 05/23/2023.

Dated: May 1, 2023.
Cindy S. Barger,
Director, NEPA Compliance Division, Office of Federal Activities.

[FR Doc. 2023-09591 Filed 5-4-23; 8:45 am]

BILLING CODE 6560-50-P